DEPARTMENT OF HEALTH AND HUMAN SERVICES

National Institutes of Health

National Institute on Aging; Amended Notice of Meeting

Notice is hereby given of a change in the meeting of the Board of Scientific Counselors, NIA, October 28, 2025, 08:00 a.m. to October 29, 2025, 04:30 p.m., National Institutes of Health, Bayview, 251 Bayview Boulevard, Baltimore, MD 21224 which was published in the Federal Register on April 30, 2025, 90 FR 17939.

FRN was amended to reflect that the meeting changed from 3 days to 2 days. The meeting is closed to the public.

Dated: August 13, 2025.
Bruce A. George,
Program Analyst, Office of Federal Advisory Committee Policy.

[FR Doc. 2025-15606 Filed 8-15-25; 8:45 am]

BILLING CODE 4140-01-P